HARRY S. TRUMAN SCHOLARSHIP FOUNDATION

Sunshine Act Meeting; Meeting of the Trustees and Officers of the Harry S. Truman Scholarship Foundation; September 18, 2007, 10 a.m.—12 p.m., Rayburn House Office Building Room 2216

Agenda

I. Welcome and Opening Comments: President Albright

II. Approval of Minutes of Meeting of November 16, 2005

III. Report from the Executive Secretary

IV. Report on the 2006/2007 Truman Fellows Program

V. Approval of Budget for FY 2007

VI. Old Business

VII. New Business

VIII. Adjournment

Frederick G. Slabach,
Executive Secretary.

[FR Doc. 07-4403 Filed 9-4-07; 4:09 pm]

BILLING CODE 6820-AD-P